FEDERAL RESERVE SYSTEM

Agency Information Collection Activities: Announcement of Board Approval Under Delegated Authority and Submission to OMB

Summary: Background. Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer —Michelle Shore—Division of Research and Statistics, Board of Governors of the Federal Reserve System, Washington, DC 20551 (202-452-3829).

OMB Desk Officer—Shagufta Ahmed —Office of Information and Regulatory Affairs, Office of Management and Budget, New Executive Office Building, Room 10235, Washington, DC 20503.

Final approval under OMB delegated authority of the extension for three years, without revision, of the following information collections:

(1) Report title: Disclosure and Reporting Requirements of CRA-Related Agreements.

Agency form number: Reg G.

OMB control number: 7100-0299.

Frequency: On occasion and annual.

Reporters: Insured depository institutions (IDIs) and nongovernmental entities or persons (NGEPs).

Annual reporting hours: 78 hours.

Number of respondents: 3 IDI and 6 NGEPs.

Estimated average hours per response: 1 hour (6 disclosure requirements and 1 annual report) and 4 hours (2 annual reports).

General description of report: This information collection is required pursuant the Federal Deposit Insurance Act (FDI Act), 12 U.S.C. 1831y(b) and (c). The FDI Act authorizes the Federal Reserve to require the disclosure and reporting requirements of Regulation G (12 CFR part 207). In general, the Federal Reserve does not consider individual respondent commercial and financial information collected by the Federal Reserve pursuant to Regulation G as confidential. However, a respondent may request confidential treatment pursuant to section (b)(4) of Freedom of Information Act, 5 U.S.C 552(b)(4).

Abstract: Section 48 of the FDI Act imposes disclosure and reporting requirements on IDIs, their affiliates and NGEPs that enter into written agreements that meet certain criteria. The written agreements must (1) be made in fulfillment of the Community Reinvestment Act of 1977 (CRA) and (2) involve funds or other resources of an IDI or affiliate with an aggregate value of more than $10,000 in a year, or loans with an aggregate principal value of more than $50,000 in a year. Section 48 excludes from the disclosure and reporting requirements any agreement between an IDI or its affiliate and an NGEP if the NGEP has not contacted the IDI or its affiliate, or a banking agency, concerning the CRA performance of the IDI.

Regulation G contains four disclosure requirements and two reporting requirements for IDIs and affiliates and two disclosure requirements and one reporting requirement for NGEPs. Please see the agency's OMB supporting statement for a summary of the disclosure and reporting requirements of Regulation G, http://www.federalreserve.gov/boarddocs/reportforms/review.cfm.

The disclosure and reporting requirements in connection with Regulation G are mandatory and apply to state member banks and their subsidiaries; bank holding companies; affiliates of bank holding companies, other than banks, savings associations, and subsidiaries of banks and savings associations; and NGEPs that enter into covered agreements with any of the aforementioned companies.

Current Actions: On September 21, 2009, the Federal Reserve published a notice in the Federal Register (74 FR 48070) requesting public comment for 60 days on the extension, without revision, of Reg G. The comment period for this notice expired on November 20, 2009. The Federal Reserve did not receive any comments.

(2) Report title: Disclosure Requirements in Connection With Regulation H (Consumer Protections in Sales of Insurance).

Agency form number: Reg H-7.

OMB control number: 7100-0298.

Frequency: On occasion.

Reporters: State member banks.

Annual reporting hours: 13,451 hours.

Number of respondents: 854.

Estimated average hours per response: 1.5 minutes.

General description of report: This information collection is mandatory pursuant the Federal Deposit Insurance Act, 12 U.S.C. 1831x. Since the Federal Reserve does not collect any information, no issue of confidentiality normally arises.

Abstract: Section 305 of the Gramm-Leach-Bliley Act requires financial institutions to provide written and oral disclosures to consumers in connection with the initial sale of an insurance product or annuity concerning its uninsured nature and the existence of the investment risk, if appropriate, and the fact that insurance sales and credit may not be tied.

Covered persons must make insurance disclosures before the completion of the initial sale of an insurance product or annuity to a consumer. The disclosure must be made orally and in writing to the consumer that: (1) The insurance product or annuity is not a deposit or other obligation of, or guaranteed by, the financial institution or an affiliate of the financial institution; (2) the insurance product or annuity is not insured by the Federal Deposit Insurance Corporation or any other agency of the United States, the financial institution, or (if applicable) an affiliate of the financial institution; and (3) in the case of an insurance product or annuity that involves an investment risk, there is investment risk associated with the product, including the possible loss of value.

Covered persons must make a credit disclosure at the time a consumer applies for an extension of credit in connection with which an insurance product or annuity is solicited, offered, or sold. The disclosure must be made orally and in writing that the financial institution may not condition an extension of credit on either: (1) The consumer's purchase of an insurance product or annuity from the financial institution or any of its affiliates; or (2) the consumer's agreement not to obtain, or a prohibition on the consumer from obtaining, an insurance product or annuity from an unaffiliated entity.

Please see the agency's OMB supporting statement for a summary of the disclosure requirements of Regulation H-7. http://www.federalreserve.gov/boarddocs/reportforms/review.cfm.

Current Actions: On September 21, 2009, the Federal Reserve published a notice in the Federal Register (74 FR 48070) requesting public comment for 60 days on the extension, without revision, of Reg H-7. The comment period for this notice expired on November 20, 2009. The Federal Reserve did not receive any comments.

(3) Report title: Domestic Branch Notification.

Agency form number: FR 4001.

OMB Control number: 7100-0097.

Frequency: On occasion.

Reporters: State member banks (SMBs).

Annual reporting hours: 810 hours.

Estimated average hours per response: 30 minutes for expedited notifications and 1 hour for nonexpedited notifications.

Number of respondents: 159 expedited and 730 nonexpedited.

General description of report: This information collection is mandatory per Section 9(3) of the Federal Reserve Act (12 U.S.C. 321) and is not given confidential treatment.

Abstract: The Federal Reserve Act and Regulation H require an SMB to seek prior approval of the Federal Reserve System before establishing or acquiring a domestic branch. Such requests for approval must be filed as notifications at the appropriate Reserve Bank for the SMB. Due to the limited information that an SMB generally has to provide for branch proposals, there is no formal reporting form for a domestic branch notification. An SMB is required to notify the Federal Reserve by letter of its intent to establish one or more new branches, and provide with the letter evidence that public notice of the proposed branch(es) has been published by the SMB in the appropriate newspaper(s). The Federal Reserve uses the information provided to fulfill its statutory obligation to review any public comment on proposed branches before acting on the proposals, and otherwise to supervise SMBs.

Please see the agency's FR 4001 OMB supporting statement for a summary of the notification requirements. http://www.federalreserve.gov/boarddocs/reportforms/review.cfm.

Current Actions: On September 25, 2009, the Federal Reserve published a notice in the Federal Register (74 FR 48960) requesting public comment for 60 days on the extension, without revision, of the FR 4001. The comment period for this notice expired on November 24, 2009. No comments were received.

Final approval under OMB delegated authority of the extension for three years, with revision, of the following report:

Report title: Consolidated Bank Holding Company Report of Equity Investments in Nonfinancial Companies, and the Annual Report of Merchant Banking Investments Held for an Extended Period.

Agency form number: FR Y-12 and FR Y-12A, respectively.

OMB control number: 7100-0300.

Frequency: FR Y-12, quarterly and semiannually; and FR Y-12A, annually.

Reporters: Bank holding companies (BHCs) and financial holding companies (FHCs).

Estimated annual reporting hours: FR Y-12, 1,485 hours; and FR Y-12A, 91 hours.

Estimated average hours per response: FR Y-12, 16.5 hours; and FR Y-12A, 7 hours.

Number of respondents: FR Y-12, 26; and FR Y-12A, 13.

General description of report: This collection of information is mandatory pursuant to Section 5(c) of the Bank Holding Company Act (12 U.S.C. 1844(c)). The FR Y-12 data are not considered confidential. However, bank holding companies may request confidential treatment for any information that they believe is subject to an exemption from disclosure under the Freedom of Information Act (FOIA), 5 U.S.C. 552(b). The FR Y-12A data are considered confidential on the basis that disclosure of specific commercial or financial data relating to investments held for extended periods of time could result in substantial harm to the competitive position of the financial holding company pursuant to the FOIA (5 U.S.C. 552(b)(4) and (b)(8)).

Abstract: The FR Y-12 collects information from certain domestic BHCs on their equity investments in nonfinancial companies. Respondents report the FR Y-12 either quarterly or semi-annually based on reporting threshold criteria. The FR Y-12A is filed annually by institutions that hold merchant banking investments that are approaching the end of the holding period permissible under Regulation Y.

Please see the agency's FR Y-12 OMB supporting statement for a summary of the proposed reporting requirements and draft reporting form and instructions. http://www.federalreserve.gov/boarddocs/reportforms/review.cfm.

Current Actions: On September 25, 2009, the Federal Reserve published a notice in the Federal Register (74 FR 48960) requesting public comment for 60 days on the extension, with revision, of the FR Y-12. The comment period for this notice expired on November 24, 2009. No comments were received.

Board of Governors of the Federal Reserve System, December 3, 2009.
Jennifer J. Johnson,
Secretary of the Board.

[FR Doc. E9-29184 Filed 12-7-09; 8:45 am]

BILLING CODE 6210-01-P